DEPARTMENT OF TRANSPORTATION

Federal Aviation Administration

First Meeting, RTCA Special Committee 223: Airport Surface Wireless Communications

AGENCY: Federal Aviation Administration (FAA), DOT.

ACTION: Notice of RTCA Special Committee 223: Airport Surface Wireless Communications meeting.

SUMMARY: The FAA is issuing this notice to advise the public of a meeting of RTCA Special Committee 223: Airport Surface Wireless Communications.

DATES: The meeting will be held November 3-4, 2009 from 9 a.m.-5 p.m.

ADDRESSES: The meeting will be held at RTCA, 1828 L Street, NW., Suite 805, RTCA Conference Rooms, Washington, DC 20036.

FOR FURTHER INFORMATION CONTACT: (1) RTCA Secretariat, 1828 L Street, NW., Suite 805, Washington, DC 20036; telephone (202) 833-9339; fax (202) 833-9434; Web site http://www.rtca.org.

SUPPLEMENTARY INFORMATION: Pursuant to section 10(a)(2) of the Federal Advisory Committee Act (Pub. L. 92-463, 5 U.S.C., Appendix 2), notice is hereby given for a Special Committee 223: Airport Surface Wireless Communications meeting. The agenda will include:

Tuesday, November 3, 2009

• Opening Session (Welcome, Introductions, Administrative Remarks)

• Special Committee Leadership

• Designated Federal Official (DFO): Mr. Brent Phillips

• Co-Chair: Mr. Aloke Roy, Honeywell International

• Co-Chair: Mr. Ward Hall, ITT Corporation

• RTCA Specific Information: Mr. Rudy Ruana, RTCA Program Director for SC-223

• Agenda Overview

• RTCA Functional Overview

• Airport Surface Wireless Communications—Background, History, Status, Industry Related Activities

• Background on Aeronautical Information Services Datalink, RTCA SC-206/EUROCAE WG-76

• Background on Eurocontrol Future Communication Infrastructure Study on Airport Surface Communications

• Other presentations, discussions, and recommendations

• Review of authorizing document (Terms of Reference) as approved by RTCA Program Management Committee on August 7, 2009

• Actions and plans for items on TOR

Wednesday, November 4, 2009

• Organization of Work, Assign Tasks and Workgroups as necessary

• Selection of Secretary for SC-223

• Presentation, Discussion, Recommendations, Assignment of Responsibilities

• Consider Liaison with other RTCA Special Committees

• Establish Agenda, Date and Place for the next plenary meeting

• Review of Meeting summary report

• Adjourn—Expected by 2 p.m. on November 4

Attendance is open to the interested public but limited to space availability. With the approval of the chairmen, members of the public may present oral statements at the meeting. Persons wishing to present statements or obtain information should contact the person listed in the FOR FURTHER INFORMATION CONTACT section. Members of the public may present a written statement to the committee at any time.

Issued in Washington, DC, on September 23, 2009.
James H. Williams,
RTCA Advisory Committee.

[FR Doc. E9-23532 Filed 9-29-09; 8:45 am]

BILLING CODE 4910-13-P